FEDERAL COMMUNICATIONS COMMISSION

[DA 02-957]

Annual Adjustment of Revenue Threshold

AGENCY: Federal Communications Commission.

ACTION: Notice.

SUMMARY: This notice announces that the 2001 revenue threshold used for classifying carriers for various accounting and reporting purposes is increased to $119 million. The Telecommunications Act of 1996 mandates that the Commission shall adjust the revenue threshold annually to reflect the effect of inflation.

ADDRESSES: Federal Communications Commission, 445 12th Street, SW., Room TW-A325, Washington, DC 20554.

FOR FURTHER INFORMATION CONTACT: Debbie Weber, Pricing Policy Division, Wireline Competition Bureau at (202) 418-0812.

SUPPLEMENTARY INFORMATION: This gives notice that the annual revenue threshold used for classifying carriers for various accounting and reporting purposes is increased to $119 million. Section 402(c) of the Telecommunications Act of 1996 mandates that we adjust this revenue threshold annually to reflect the effects of inflation since October 19, 1992, at which time the threshold was $100 million. In accordance with the Act, we adjust the threshold based on the ratio of the gross domestic product chain-type price index (GDP-CPI) in the revenue year and the GDP-CPI for October 19,1992. The revenue threshold for 2001 was determined as follows:

(1) October 19, 1992 GDP-CPI: 91.62

(2) 2001 GDP-CPI: 109.37

(3) Inflation Factor (line 2 ÷ line 1): 1.1937

(4) Original Revenue Threshold: $100 million

(5) 2001 Revenue Threshold (line 3 * line 4): $119 million

Federal Communications Commission.
Tamara L. Preiss,
Chief, Pricing Policy Division.

[FR Doc. 02-11834 Filed 5-10-02; 8:45 am]

BILLING CODE 6712-01-P